DEPARTMENT OF DEFENSE

Office of the Secretary

National Security Education Board Group of Advisors Meeting

AGENCY: Under Secretary of Defense Personnel and Readiness, DoD.

ACTION: Notice of meeting; correction.

SUMMARY: On May 6, 2009, 74 FR 20930, the Department of Defense published a notice announcing a meeting of the National Security Education Board Group of Advisors on May 20-21, 2009. This notice is published to inform participants of the new meeting location. All other information remains unchanged.

ADDRESSES: Carnegie Mellon University, University Center, Rangos Hall No. 3, Building #28, Pittsburgh, PA 15213.

FOR FURTHER INFORMATION CONTACT: Dr. Kevin Gormley, Program Officer, National Security Education Program, 1101 Wilson Boulevard, Suite 1210, Rosslyn, P.O. Box 20010, Arlington, Virginia 22209-2248; (703) 696-1991. Electronic mail address: Gormleyk@ndu.edu.

Dated: May 11, 2009.
Morgan E. Frazier,
OSD Federal Register Liaison Officer, Department of Defense.

[FR Doc. E9-11353 Filed 5-14-09; 8:45 am]

BILLING CODE 5001-06-P